DEPARTMENT OF ENERGY

Federal Energy Regulatory Commission

Sunshine Act Meetings

May 11, 2006.

The following notice of meeting is published pursuant to section 3(a) of the Government in the Sunshine Act (Pub. L. 94-409), 5 U.S.C. 552b:

AGENCY HOLDING MEETING: Federal Energy Regulatory Commission.

DATE AND TIME: May 18, 2006; 10 a.m.

PLACE: Room 2C, 888 First Street NE., Washington, DC 20426.

Status: Open.

Matters To Be Considered: Agenda; *Note—Items listed on the agenda may be deleted without further notice.

Contact Person for More Information: Magalie R. Salas, Secretary, Telephone (202) 502-8400. For a recorded listing item stricken from or added to the meeting, call (202) 502-8627.

This is a list of matters to be considered by the Commission. It does not include a listing of all papers relevant to the items on the agenda; however, all public documents may be examined in the Public Reference Room.

905th—Meeting

Regular Meeting
[May 18, 2006; 10 a.m.]
Item No. | Docket No. | Company
Administrative Agenda
A-1 | AD02-1-000 | Agency Administrative Matters.
A-2 | AD02-7-000 | Customer Matters, Reliability, Security and Market Operations.
A-3 | AD06-3-000 | Energy Market Update.
Electric
E-1 | RM05-25-000 | Preventing Undue Discrimination and Preference in Transmission Service.
| RM05-17-000 | Information Requirements for Available Transfer Capability.
E-2 | RM04-7-000 | Market-Based Rates for Wholesale Sales of Electricity by Public Utilities.
E-3 | Omitted
E-4 | ER99-3491-005 ER99-3491-006 ER99-3491-007 ER99-3491-008 | PP&L Montana, LLC.
| ER00-2184-003 ER00-2184-004 ER00-2184-005 ER00-2184-006 | PPL Colstrip II, LLC.
| ER00-2185-003 ER00-2185-004 ER00-2185-005
| ER00-2185-006 | PPL Colstrip I, LLC.
| EL05-124-000 EL05-124-001 EL05-124-002 EL05-124-003 | PPL Montana, LLC, PPL Colstrip II, LLC and PPL Colstrip I, LLC.
E-5 | ER06-780-000 | American Electric Power Service Corporation.
E-6 | ER06-800-000 | Midwest Independent Transmission System Operator, Inc. and American Transmission Systems, Inc.
E-7 | ER06-801-000 | Allegheny Energy Supply Company, LLC.
E-8 | Omitted
E-9 | ER06-777-000 | Conectiv Energy Supply, Inc.
E-10 | ER06-839-000 | Conectiv Energy Supply, Inc.
E-11 | Omitted
E-12 | ER06-840-000 | Conectiv Energy Supply, Inc.
E-13 | Omitted
E-14 | ER01-3001-013 ER01-3001-014 | New York Independent System Operator, Inc.
E-15 | ER05-1475-004 | Midwest Independent Transmission System Operator, Inc.
E-16 | Omitted
E-17 | Omitted
E-18 | EC06-48-000 | Westar Energy, Inc., ONEOK Energy Services Company, L.P.
E-19 | RM06-14-000 | Revisions to Record Retention Requirements for Unbundled Sales Service, Persons Holding Blanket Marketing Certificates, and Public Utility Market-Based Rate Authorization Holders.
E-20 | ER05-130-001 ER05-130-003 ER05-150-000 | Pacific Gas and Electric Company.
E-21 | Omitted
E-22 | RM06-2-001 | Procedures for Disposition of Contested Audit Matters.
E-23 | RM05-36-001 | Revised Regulations Governing Small Power Production and Cogeneration Facilities.
E-24 | Omitted
E-25 | RM01-10-005 | Order on Request for Additional Clarification of Interpretive Order Relating to the Standards of Conduct.
Hydro
H-1 | P-12657-000 P-12657-001 | Electric Plant Board of the City of Augusta, Kentucky.
H-2 | P-2342-018 | PacifiCorp.
H-3 | P-10395-033 | Electric Plant Board of the City of Augusta, Kentucky.
H-4 | P-2659-023 | PacifiCorp.
H-5 | P-5633-008 P-6058-014 P-6059-015 | Hydro Development Group, Inc.
H-6 | P-12498-002 P-12500-002 P-12497-002 P-12499-002 P-12502-002 P-12503-002 P-12504-002 | Red Circle Systems Corporation.
Certificates
C-1 | Omitted
C-2 | RM06-1-000 | Regulations Implementing the Energy Policy Act of 2005: Coordinating the Processing of Federal Authorizations for Applications under Sections 3 and 7 of the Natural Gas Act and Maintaining a Complete Consolidated Record.
C-3 | CP06-34-000 | Transcontinental Gas Pipe Line Corporation.
C-4 | Omitted
C-5 | CP04-68-000 CP04-69-000 | Freeport-McMoRan Energy LLC.

Magalie R. Salas,
Secretary.

A free Web cast of this event is available through http://www.ferc.gov. Anyone with Internet access who desires to view this event can do so by navigating to www.ferc.gov's Calendar of Events and locating this event in the Calendar. The event will contain a link to its Webcast. The Capitol Connection provides technical support for the free Web casts. It also offers access to this event via television in the DC area and via phone bridge for a fee. If you have any questions, visit http://www.CapitolConnection.org or contact Danelle Perkowski or David Reininger at 703-993-3100.

Immediately following the conclusion of the Commission Meeting, a press briefing will be held in Hearing Room 2. Members of the public may view this briefing in the Commission Meeting overflow room. This statement is intended to notify the public that the press briefings that follow Commission meetings may now be viewed remotely at Commission headquarters, but will not be telecast through the Capitol Connection service.

[FR Doc. 06-4637 Filed 5-12-06; 4:42 pm]

BILLING CODE 6717-01-P